DEPARTMENT OF LABOR

Employment and Training Administration

[TA-W-51,204]

Corbin, LTD, Ashland, KY; Notice of Termination of Investigation

Pursuant to section 221 of the Trade Act of 1974, an investigation was initiated on March 18, 2003, in response to a worker petition that was filed on behalf of workers at Corbin, LTD, Ashland, Kentucky.

All workers at the subject firm were certified on December 31, 2002 (TA-W-41,840 and NAFTA 6438). The certification expires two years from date of certification.

Consequently, further investigation would serve no purpose, and the investigation has been terminated.

Signed in Washington, DC, this 9th day of April, 2003.
Elliott S. Kushner,
Certifying Officer, Division of Trade Adjustment Assistance.

[FR Doc. 03-10144 Filed 4-23-03; 8:45 am]

BILLING CODE 4510-30-P